DEPARTMENT OF THE INTERIOR

National Park Service

[NPS-WASO-NAGPRA-NPS0035227; PPWOCRADN0-PCU00RP14.R50000]

Notice of Intent To Repatriate Cultural Items: San Francisco State University NAGPRA Program, San Francisco, CA

AGENCY: National Park Service, Interior.

ACTION: Notice.

SUMMARY: In accordance with the Native American Graves Protection and Repatriation Act (NAGPRA), the San Francisco State University NAGPRA Program intends to repatriate certain cultural items that meet the definition of objects of cultural patrimony and that have a cultural affiliation with the Indian Tribes or Native Hawaiian organizations in this notice. The cultural items were removed from Colusa County, CA.

DATES: Repatriation of the cultural items in this notice may occur on or after March 3, 2023.

ADDRESSES: Zay D. Latt, San Francisco State University NAGPRA Program, 1600 Holloway Avenue, Administration Building 5th Floor, ADM 562C, San Francisco, CA 94132, telephone (415) 405-3545, email nagpra@sfsu.edu.

SUPPLEMENTARY INFORMATION: This notice is published as part of the National Park Service's administrative responsibilities under NAGPRA. The determinations in this notice are the sole responsibility of the San Francisco State University NAGPRA Program. The National Park Service is not responsible for the determinations in this notice. Additional information on the determinations in this notice, including the results of consultation, can be found in the summary or related records held by the San Francisco State University NAGPRA Program.

Description

In 1963, one cultural item was removed from archeological site CA-COL-25 in Colusa County, CA, by San Francisco State College archeologists. The site was documented by Dr. Adan E. Treganza of San Francisco State College as part of a broader survey project undertaken during 1963-1965, prior to construction of the Tehama-Colusa Canal. The cultural item was housed at San Francisco State College, which is now San Francisco State University, following completion of the survey project. The object of cultural patrimony is a limestone or basalt core.

Also in 1963, as part of the same Tehama-Colusa Canal survey project, one cultural item was removed from archeological site CA-COL-27 in Colusa County, CA. The object of cultural patrimony is one lot of obsidian items.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological, geographical, and tribal expert opinion.

Determinations

Pursuant to NAGPRA and its implementing regulations, and after consultation with the appropriate Indian Tribes and Native Hawaiian organizations, the San Francisco State University NAGPRA Program has determined that:

• The two cultural items described above have ongoing historical, traditional, or cultural importance central to the Native American group or culture itself, rather than property owned by an individual.

• There is a relationship of shared group identity that can be reasonably traced between the cultural items and the Yocha Dehe Wintun Nation, California (previously listed as Rumsey Indian Rancheria of Wintun Indians of California).

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 3, 2023. If competing requests for repatriation are received, the San Francisco State University NAGPRA Program must determine the most appropriate requestor prior to repatriation. Requests for joint repatriation of the cultural items are considered a single request and not competing requests. The San Francisco State University NAGPRA Program is responsible for sending a copy of this notice to the Indian Tribe identified in this notice.

Authority: Native American Graves Protection and Repatriation Act, 25 U.S.C. 3003, and the implementing regulations, 43 CFR 10.8, 10.10, and 10.14.

Dated: January 25, 2023.
Melanie O'Brien,
Manager, National NAGPRA Program.

[FR Doc. 2023-02058 Filed 1-31-23; 8:45 am]

BILLING CODE 4312-52-P